DEPARTMENT OF HEALTH AND HUMAN SERVICES

National Institutes of Health

National Institute of Mental Health; Notice of Meeting

Pursuant to section 10(a) of the Federal Advisory Committee Act, as amended (5 U.S.C. App.), notice is hereby given of a meeting of the Subcommittee for Planning the Annual Strategic Plan Updating Process of the Interagency Autism Coordinating Committee (IACC). The Subcommittee meeting will be conducted as a telephone conference call and webinar.

Name of Committee: Interagency Autism Coordinating Committee (IACC).

Type of Meeting: Subcommittee for Planning the Annual Strategic Plan Updating Process.

Date: September 21, 2010.

Time: 1 p.m. to 3 p.m. Eastern Time.

Agenda: To discuss plans for updating the IACC Strategic Plan for ASD Research.

Place: No in-person meeting; conference call and webinar only.

Webinar Access: https://www2.gotomeeting.com/register/461944091.

Registration: No pre-registration required.

Conference Call: Dial: 800-369-3340. Access code: 8415008.

Contact Person: Ms. Lina Perez, Office of Autism Research Coordination, National Institute of Mental Health, NIH, 6001 Executive Boulevard, NSC, Room 8185a, Bethesda, MD 20892-9669, Phone: (301) 443-6040, E-mail: IACCPublicInquiries@mail.nih.gov.

Please Note: The meeting will be open to the public through a conference call phone number and webinar. Individuals who participate using this service and who need special assistance, such as captioning of the conference call or other reasonable accommodations, should submit a request at least 10 days prior to the meeting.

Members of the public who participate using the conference call phone number will be able to listen to the meeting but will not be heard.

If you experience any technical problems with the Web presentation tool, please contact GoToWebinar at (800) 263-6317. To access the Web presentation tool on the Internet the following computer capabilities are required: (a) Internet Explorer 5.0 or later, Netscape Navigator 6.0 or later or Mozilla Firefox 1.0 or later; (b) Windows® 2000, XP Home, XP Pro, 2003 Server or Vista; (c) Stable 56k, cable modem, ISDN, DSL or better Internet connection; (d) Minimum of Pentium 400 with 256 MB of RAM (Recommended); (e) Java Virtual Machine enabled (Recommended).

Meeting schedule subject to change.

Information about the IACC is available on the Web site: http://www.iacc.hhs.gov.

Dated: August 12, 2010.
Jennifer S. Spaeth,
Director, Office of Federal Advisory Committee Policy.

[FR Doc. 2010-20611 Filed 8-18-10; 8:45 am]

BILLING CODE 4140-01-P